DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2009 National Survey on Drug Use and Health—(OMB No. 0930-0110)—Revision

The National Survey on Drug Use and Health (NSDUH), formerly the National Household Survey on Drug Abuse (NHSDA) is a survey of the civilian, non-institutionalized population of the United States 12 years old and older. The data are used to determine the prevalence of use of tobacco products, alcohol, illicit substances, and illicit use of prescription drugs. The results are used by SAMHSA, ONDCP, Federal government agencies, and other organizations and researchers to establish policy, direct program activities, and better allocate resources.

In the 2009 NSDUH, one scale measuring impairment from mental health issues will be adopted. The decision to adopt either the Sheehan or the WHO-DAS is currently being evaluated in the 2008 NSDUH by using the SCID-I/NP as a follow-up interview with a subsample of respondents. Based upon a substantive review of questions in the Youth Mental Health Services Utilization module, updates will be made to this section. These updates will also be reflected in the Parenting Experiences module, in order to refine the analysis of overall treatment rates. The remaining modular components of the questionnaire will remain essentially unchanged except for minor modifications to wording.

As with all NSDUH/NHSDA surveys conducted since 1999, the sample size of the survey for 2009 will be sufficient to permit prevalence estimates for each of the fifty states and the District of Columbia. The total annual burden estimate is shown below:

| No. of responses | Responses per respondent | Average burden per response (hr) | Total burden (hrs)
Household Screening | 182,250 | 1 | .083 | 15,127
Interview | 67,500 | 1 | 1.0 | 67,500
Clinical Follow-up Interview | 500 | 1 | 1.0 | 500
Screening Verification | 5,400 | 1 | 0.067 | 362
Interview Verification | 10,125 | 1 | 0.067 | 678
| 182,250 |  |  | 84,167

Send comments to Summer King, SAMHSA Reports Clearance Officer, Room 7-1044, One Choke Cherry Road, Rockville, MD 20857 AND e-mail her a copy at summer.king@samhsa.hhs.gov. Written comments should be received within 60 days of this notice.

Dated: April 7, 2008.
Elaine Parry,
Acting Director, Office of Program Services.

[FR Doc. E8-7977 Filed 4-14-08; 8:45 am]

BILLING CODE 4162-20-P